DEPARTMENT OF JUSTICE

Antitrust Division

Notice Pursuant to The National Cooperative Research and Production Act of 1993—New Productivity Initiative, Inc.

Notice is hereby given that, on January 16, 2002, pursuant to section 6(a) of the National Cooperative Research and Production Act of 1993, 15 U.S.C. 4301 et seq. (“the Act”), New Productivity Initiative, Inc. has filed written notifications simultaneously with the Attorney General and the Federal Trade Commission disclosing changes in its membership status. The notifications were filed for the purpose of extending the Act's provisions limiting the recovery of antitrust plaintiffs to actual damages under specified circumstances. Specifically, Cadance Design Systems, Chelmsford, MA; and Compaq Computer Corporation, Houston, TX have been added as parties to this venture.

No other changes have been made in either the membership or planned activity of the group research project. Membership in this group research project remains open, and New Productivity Initiative, Inc. intends to file additional written notification disclosing all changes in membership.

On October 4, 2001, New Productivity Initiative, Inc. filed its original notification pursuant to section 6(a) of the Act.

The Department of Justice published a notice in the Federal Register pursuant to section 6(b) of the Act on December 5, 2001 (66 FR 63259).

Constance K. Robinson,
Director of Operations, Antitrust Division.

[FR Doc. 02-5757 Filed 3-8-02; 8:45 am]

BILLING CODE 4410-11-M